DEPARTMENT OF ENERGY

Federal Energy Regulatory Commission

[Project No. 11433-016]

Madison Electric Works; Notice of Availability of Environmental Assessment

May 2, 2006.

In accordance with the National Environmental Policy Act of 1969 and the Federal Energy Regulatory Commission's (Commission) regulations, 18 CFR Part 380 (Order No. 486, 52 F.R. 47897), the Office of Energy Projects has prepared an Environmental Assessment (EA) for an application requesting Commission approval for surrender of minor project license and dam removal of the 547 kilowatt Sandy River Project (FERC No. 11433). The project is located on the Sandy River in the Towns of Norridgewock and Starks, Somerset County, Maine.

The EA contains the staff's analysis of the potential environmental impacts of the project and concludes that the surrender of license and dam removal would not constitute a major federal action that would significantly affect the quality of the human environment.

A copy of the EA is attached to the May 1, 2006 Commission Order titled “Order Approving Surrender of License with Dam Removal,” which is available for review and reproduction at the Commission's Public Reference Room, located at 888 First Street, NE., Room 2A, Washington, DC 20426. The EA may also be viewed on the Commission's Web site at http://www.ferc.gov using the “eLibrary” link. Enter the docket number (prefaced by P-) in the docket number field to access the document. For assistance, contact FERC On Line Support at FERCOnlineSupport@ferc.gov or call toll free at (866) 208-3676, or for TTY contact (202) 502-8659.

For further information, please contact Andrea Shriver at (202) 502-8171.

Magalie R. Salas,
Secretary.

[FR Doc. E6-6944 Filed 5-8-06; 8:45 am]

BILLING CODE 6717-01-P